DEPARTMENT OF ENERGY

Federal Energy Regulatory Commission

Combined Notice of Filings #1

Take notice that the Commission received the following electric rate filings:

Docket Numbers: ER19-2547-000; ER19-2547-001; ER19-2547-002.

Applicants: Pheasant Run Wind, LLC.

Description: Refund Report of Pheasant Run Wind, LLC.

Filed Date: 6/16/21.

Accession Number: 20210616-5130.

Comments Due: 5 p.m. ET 7/7/21.

Docket Numbers: ER21-1727-001.

Applicants: Morgan Stanley Capital Group Inc.

Description: Tariff Amendment: Amendment to 28 to be effective 4/23/2021.

Filed Date: 6/17/21.

Accession Number: 20210617-5074.

Comments Due: 5 p.m. ET 7/8/21.

Docket Numbers: ER21-1731-001.

Applicants: TAQA Gen X LLC.

Description: Tariff Amendment: Amendment to 23 to be effective 4/23/2021.

Filed Date: 6/17/21.

Accession Number: 20210617-5070.

Comments Due: 5 p.m. ET 7/8/21.

Docket Numbers: ER21-1881-000.

Applicants: Grand Tower Energy Center, LLC.

Description: Supplement to May 11, 2021 Notice of Cancellation of Grand Tower Energy Center, LLC.

Filed Date: 6/15/21.

Accession Number: 20210615-5158.

Comments Due: 5 p.m. ET 7/6/21.

Docket Numbers: ER21-2150-000.

Applicants: Tri-State Generation and Transmission Association, Inc.

Description: § 205(d) Rate Filing: Amendment to Rate Schedule FERC No. 126 to be effective 4/20/2021.

Filed Date: 6/17/21.

Accession Number: 20210617-5024.

Comments Due: 5 p.m. ET 7/8/21.

Docket Numbers: ER21-2151-000.

Applicants: PJM Interconnection, L.L.C.

Description: § 205(d) Rate Filing: Amendment to ISA, SA No. 2195; Queue No. X1-074 (amend) to be effective 8/28/2014.

Filed Date: 6/17/21.

Accession Number: 20210617-5036.

Comments Due: 5 p.m. ET 7/8/21.

Docket Numbers: ER21-2152-000.

Applicants: BP Energy Company.

Description: Compliance filing: New eTariff Baseline Filing to be effective 7/6/2021.

Filed Date: 6/17/21.

Accession Number: 20210617-5047.

Comments Due: 5 p.m. ET 7/8/21.

Docket Numbers: ER21-2154-000.

Applicants: Arizona Public Service Company.

Description: § 205(d) Rate Filing: Service Agreement Nos. 389 and 391 to be effective 6/1/2021.

Filed Date: 6/17/21.

Accession Number: 20210617-5063.

Comments Due: 5 p.m. ET 7/8/21.

Docket Numbers: ER21-2155-000.

Applicants: PacifiCorp.

Description: § 205(d) Rate Filing: Heber Light Const Agmt 2nd POD Daniels Sub to be effective 8/17/2021.

Filed Date: 6/17/21.

Accession Number: 20210617-5067.

Comments Due: 5 p.m. ET 7/8/21.

Docket Numbers: ER21-2156-000.

Applicants: Antelope Expansion 1B, LLC.

Description: Baseline eTariff Filing: Antelope Expansion 1B, LLC MBR Tariff to be effective 7/1/2021.

Filed Date: 6/17/21.

Accession Number: 20210617-5081.

Comments Due: 5 p.m. ET 7/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2021.
Debbie-Anne A. Reese,
Deputy Secretary.

[FR Doc. 2021-13439 Filed 6-23-21; 8:45 am]

BILLING CODE 6717-01-P